DEPARTMENT OF LABOR

Employment and Training Administration

[TA-W-38,343]

United Steelworkers of America (USWA), Local 2176, Gadsden, AL; Dismissal of Application for Reconsideration

Pursuant to 29 CFR 90.18(C) an application for administrative reconsideration was filed with the Director of the Trade Adjustment Assistance for workers at United Steelworkers of America (USWA), Local 2176, Gadsden, Alabama. The application contained no new substantial information which would bear importantly on the Department's determination. Therefore, dismissal of the application was issued.

TA-W-38,343; United Steelworkers of America (USWA), Local 2176, Gadsden, Alabama (February 22, 2001)

Signed in Washington, DC, this 22nd day of February, 2001.
Edward A. Tomchick,
Director, Division of Trade Adjustment Assistance.

[FR Doc. 01-5087 Filed 3-1-01; 8:45 am]

BILLING CODE 4510-30-M